DEPARTMENT OF TRANSPORTATION

Maritime Administration

[Docket No. MARAD-2020-0143]

Request for Comments of a Previously Approved Information Collection: Voluntary Intermodal Sealift Agreement (VISA)

AGENCY: Maritime Administration, DOT.

ACTION: Notice and request for comments.

SUMMARY: In compliance with the Paperwork Reduction Act of 1995, this notice announces that the Information Collection Request (ICR) abstracted below is being forwarded to the Office of Management and Budget (OMB) for review and comments. The information requested is needed by the Maritime Administration (MARAD) and the Department of Defense (DoD), including representatives from U.S. Transportation Command and its components, to assess respondents' eligibility for participation in the VISA program. A Federal Register Notice with a 60-day comment period soliciting comments on the following information collection was published on August 12, 2020.

DATES: Comments must be submitted on or before November 27, 2020.

ADDRESSES: Written comments and recommendations for the proposed information collection should be sent to www.reginfo.gov/public/do/PRAMain. Find this particular information collection by selecting “Currently under 30-day Review—Open for Public Comments” or by using the search function.

FOR FURTHER INFORMATION CONTACT: William McDonald, 202-366-0688, Office of Sealift Support, Maritime Administration, U.S. Department of Transportation, 1200 New Jersey Avenue SE, W25-310, Washington, DC, 20590.

SUPPLEMENTARY INFORMATION: Title: Voluntary Intermodal Sealift Agreement (VISA).

OMB Control Number: 2133-0532.

Type of Request: Renewal of a Previously Approved Information Collection.

Background: The Voluntary Intermodal Sealift Agreement (VISA) is a voluntary agreement, in accordance with section 708, Defense Production Act, 1950, as amended, under which participants agree to provide commercial sealift capacity and intermodal shipping services and systems, necessary to meet national defense requirements. In order to meet national defense requirements, the Government must assure the continued availability of commercial sealift resources.

Respondents: Operators of qualified dry cargo vessels.

Affected Public: Business or other for profit.

Total Estimated Number of Responses: 40.

Frequency of Collection: Annually.

Estimated Time per Respondent: 5 hrs.

Total Estimated Number of Annual Burden Hours: 200.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93

Dated: October 22, 2020.
By Order of the Maritime Administrator.
T. Mitchell Hudson, Jr.,
Secretary, Maritime Administration.

[FR Doc. 2020-23717 Filed 10-26-20; 8:45 am]

BILLING CODE 4910-81-P